DEPARTMENT OF TRANSPORTATION

Federal Aviation Administration

Harmonization Initiatives

AGENCY: Federal Aviation Administration, DOT.

ACTION: Notice of public meeting.

SUMMARY: The Federal Aviation Administration and the Joint Aviation will convene a meeting to accept input from the public on the Harmonization Work Program. The Harmonization Work Program is the means by which the Federal Aviation Administration and the Joint Aviation Authorities carry out a commitment to harmonize, to the maximum extent possible, the rules regarding the certification, operation and maintenance of civil aircraft, and the standards, practices, and procedures governing the design, materials, workmanship, and construction of civil aircraft, aircraft engines, and other components. The purpose of the meeting is to provide an opportunity for the public to submit input to the Harmonization Work Program. This notice announces the date, time, location and procedures for the public meeting.

DATES: The public meeting will be held on November 27, 2001, starting at 1:30 p.m. Industry comments, presentations and proposals must be received on or before November 1, 2001.

ADDRESSES: The public meeting will be held at the Washington Court Hotel, 525 New Jersey Avenue, NW., Washington, DC, 20001. Persons unable to attend the meeting may mail their comments in triplicate to: Brenda Courtney, Federal Aviation Administration, Office of Rulemaking (ARM-200), 800 Independence Avenue, SW., Washington, DC 20591. You may also submit your comments to Brenda Courtney by e-mail: brenda.courtney@faa.gov or by facsimile at (202) 267-5075.

FOR FURTHER INFORMATION CONTACT: Requests to attend and present a statement at the meeting or questions regarding the logistics of the meeting should be directed to Brenda Courtney, Office of Rulemaking, 800 Independence Avenue, SW., Washington, DC 20591; telephone (202) 267-3327, e-mail: brenda.courtney@faa.gov, or facsimile at (202) 267-3327.

SUPPLEMENTARY INFORMATION: Federal Aviation Administration (FAA) and the Joint Aviation Authorities (JAA) will convene a meeting to accept input from the public on the Harmonization Work Program. The meeting will be held on November 27, 2001, at the Washington Court Hotel, 525 New Jersey Avenue, NW., Washington, DC beginning at 1:30 p.m. The agenda is as follows.

November 27, 2001—Springwood Room

1:30-5 p.m. Welcome, practical arrangements

Authorities News of Interest

Approbation of Minutes (March 2001)

Debrief on action items from

• March 2001 HMT Meeting

• FAA/JAA 18th Annual Meeting (June 2001)

• OHG and CCHG Meetings

Industry and Public Presentations

Suggestions for 195h FAA/JAA Annual Meeting (June 2002)

The Washington Court Hotel is located on New Jersey Avenue, NW., three blocks from the U.S. Capitol building. Union Station, which includes Amtrak (train) and metro rail service (red line), is two blocks away. Washington Reagan National airport is a 15-minute ride by taxi. For hotel reservations at the Washington Court Hotel, please call (202) 628-2100 or fax 1-202-879-7918. Conference attendees should advise the hotel that you plan to attend the “FAA/JAA Meeting”. Reservations must be made by Friday, October 26, 2001.

Participation at the Meeting

The FAA should receive requests from persons who wish to present oral and written statements at the public meeting no later than November 10, 2001. Statements and presentations should be provided on diskette or forwarded by e-mail to the person identified under the caption FOR FURTHER INFORMATION CONTACT to be made part of the official minutes of the meeting. Requests to present oral statements received after November 10 will be scheduled if time is available during the meeting.

Meeting Procedures

The following procedures are established to facilitate the meeting:

(1) There will be no admission fee or other charge to attend or to participate in the meeting. The meeting will be open to all persons who have requested in advance to present statements or who register on the day of the meeting, subject to availability of space in the meeting room.

(2) The meeting may adjourn early if scheduled speakers complete their statements in less than the time scheduled for the meeting.

(3) The FAA will try to accommodate all speakers. If the available time does not permit this, speakers generally will be scheduled on a first-come-first-served basis. However, the FAA reserves the right to exclude some speakers if necessary to present a balance of viewpoints and issues.

(4) Sign and oral interpretation can be made available at the meeting, as well as an assistive listening device, if requested at the above number listed under FOR FURTHER INFORMATION CONTACT at least 10 calendar days before the meeting.

(5) Representatives from FAA and JAA will preside over the meeting.

(6) The FAA and JAA will review and consider all material presented by participants at the meeting. Position papers or material presenting views or information related to proposed harmonization initiatives may be accepted at the discretion of the FAA and JAA. The FAA requests that persons participating in the meeting provide copies of all materials to be presented. Copies may be provided to the audience at the discretion of the participant.

(7) Statements made by the FAA and JAA are intended to facilitate discussion of issues or to clarify issues. Any statement made during the meeting by an official is not intended to be, and should not be construed as, a position of the FAA and JAA.

(8) The meeting is designed to solicit public views and more complete information on proposed harmonization initiatives. Therefore, the meeting will be conducted in an informal and nonadversarial manner. No individual will be subject to cross-examination by any other participant; however, panel members may ask questions to clarify a statement and to ensure a complete and accurate record.

Dated: Issued in Washington, DC, on October 17, 2001.
Brenda D. Courtney,
Manager, Aircraft and Airport Rules Division.

[FR Doc. 01-26665 Filed 10-22-01; 8:45 am]

BILLING CODE 4910-13-M